OFFICE OF PERSONNEL MANAGEMENT

Solicitation of Federal Civilian and Uniformed Service Personnel for Contributions to Private Voluntary Organizations—Charity Recoding

AGENCY: Office of Personnel Management (OPM).

ACTION: Notice.

SUMMARY: The Office of Personnel Management (OPM) is assigning new, unique code numbers to charitable organizations that participate in the Combined Federal Campaign (CFC). The number of participating charitable organizations is increasing and will soon exceed the number of codes available under the current CFC coding procedure. In addition, the assignment of new, unique code numbers will allow OPM to improve the efficiency and effectiveness of the CFC by assisting in future promotion of the use of electronic giving technology and future revision to geographic restrictions to donor giving.

DATES: The Office of Personnel Management's Office of the CFC Operations (OCFCO) will issue new code numbers to charities and provide them to local campaigns and charities no later than March 30, 2007.

FOR FURTHER INFORMATION CONTACT: Mark W. Lambert, Senior Compliance Officer for the Office of CFC Operations, by telephone at (202) 606-2564; by fax at (202) 606-0902; or by e-mail at cfc@opm.gov.

SUPPLEMENTARY INFORMATION: Currently, the CFC coding procedure is based on a four-digit number. Charitable organizations that are approved to participate in the CFC as national or international organizations are assigned a four-digit code by OPM. Local CFCs assign a four-digit code to organizations approved to participate in that local CFC. OPM informs local CFCs of which four-digit codes were not used for national and international organizations and that are, therefore, available for local use. There are approximately 2,000 participating national and international organizations and an estimated additional 20,000 local organizations. With a four-digit coding procedure, there are only 9,999 available codes. Charitable organizations in different local CFCs often have identical codes because of the independent assignment process and the limits of the current four-digit code structure. At the same time, OPM has reclaimed all or part of a code series in the past several years to accommodate the ever-expanding list of national/ international federations. Consequently, redundant code assignments can lead to the misdirection of donor funds, as donor choices in giving currently remain limited to the national/international list and to local charities located within the employee's designated duty station campaign.

In recently issued CFC regulations, set forth at 5 CFR Part 950, the OPM Director has the authority, upon implementation of appropriate electronic technology, to remove the restriction that limits donors to contributing only to local charities within their geographic campaign area, based on their official duty station. A first step in implementing electronic technology that would allow donors to contribute to local organizations in other campaign areas is to make sure that each organization has its own unique code. Being able to identify all participating charitable organizations by a unique code will also allow OPM to better monitor compliance with CFC eligibility standards and sanctions compliance requirements. In order to be eligible to participate in the CFC, each charitable organization must be determined to be a tax-exempt public charity under section 501(c)(3) of the Internal Revenue Code. In order to demonstrate compliance with this eligibility standard, each charitable organization must provide a copy of its IRS determination letter. However, many of the IRS determination letters provided by charitable organizations are dated at the time of the initial IRS determination. That determination could have been made many years prior to the current CFC to which the charitable organization is applying for participation. To ensure that each charitable organization meets the 501(c)(3) eligibility standard, OPM will compare the applicant organization against an IRS database to determine that the charitable organization is still recognized as a 501(c)(3) tax-exempt public charity by the IRS. The newly assigned unique codes will assist OPM in identifying each charitable organization against the IRS database. In addition, OPM requires each charitable organization participating in the CFC to complete a certification that it is in compliance with all statutes, Executive orders, and regulations restricting or prohibiting U.S. persons from engaging in transactions and dealings with countries, entities or individuals subject to economic sanctions administered by the U.S. Department of the Treasury's Office of Foreign Assets Control (OFAC). Currently, OPM checks each participating national and international organization against the OFAC list of sanctioned organizations and requests local campaigns to do the same. The newly assigned unique codes will assist OPM in performing this check against the OFAC list for all national, international, and local, organizations participating in the CFC and relieve a burden from the local campaigns.

U.S. Office of Personnel Management.
Linda M. Springer,
Director.

[FR Doc. E6-21904 Filed 12-20-06; 8:45 am]

BILLING CODE 6325-46-P